DEPARTMENT OF TRANSPORTATION

Office of the Secretary

Aviation Proceedings

Notice of Applications for Certificates of Public Convenience and Necessity and Foreign Air Carrier Permits Filed Under subpart B (formerly subpart Q) during the week ending September 28, 2001. The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-1996-1592.

Date Filed: September 28, 2001.

Due Date for Answers, Conforming Applications, or Motion to Modify Scope: October 19, 2001.

Description: Contingent Application of Delta Air Lines, Inc., pursuant to 49 U.S.C. Section 411102 and 41108 and subpart B, for renewal of its certificate of public convenience and necessity for Route 732, to engage in foreign air transportation of persons, property and mail between a point or points in the United States, the intermediate point, Vienna, Austria, and, the terminal point Warsaw, Poland.

Andrea M. Jenkins,
Federal Register Liaison.

[FR Doc. 01-25655 Filed 10-11-01; 8:45 am]

BILLING CODE 4910-62-P